DEPARTMENT OF COMMERCE

Economic Development Administration

Agency Information Collection Activities; Submission to the Office of Management and Budget (OMB) for Review and Approval; Comment Request; Workforce System Metrics

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 31, 2022.

ADDRESSES: Interested persons are invited to submit written comments via email to Leopold Spohngellert, Policy Fellow, U.S. Department of Commerce, at lspohngellert@doc.gov or PRAcomments@doc.gov. Do not submit Confidential Business Information or otherwise sensitive or protected information.

FOR FURTHER INFORMATION CONTACT: Requests for additional information or specific questions related to collection activities should be directed to Leopold Spohngellert, Policy Fellow, U.S. Department of Commerce, (917) 902-2482 or at lspohngellert@doc.gov.

SUPPLEMENTARY INFORMATION:

I. Abstract

The Economic Development Administration (EDA) leads the Federal economic development agenda by promoting innovation and competitiveness, preparing American regions for growth and success in the worldwide economy. Guided by the basic principle that sustainable economic development should be driven locally, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, workforce development, capacity building, and business development to attract private capital investments and new and better jobs to regions experiencing economic distress. Further information on EDA programs and financial assistance opportunities can be found at www.eda.gov.

To effectively administer and monitor its economic development assistance programs, EDA collects certain information from applications for, and recipients of, EDA investment assistance. The purpose of this notice is to seek comments from the public and other Federal agencies on a request for a new information collection for recipients of awards under the EDA American Rescue Plan Act (ARPA) Good Jobs Challenge. This is aligned with ensuring that Federal workforce investments are evidence-based and data-driven, and accountable to participants and the public. Award recipients will be required to submit identified program metrics and information for three key award stakeholders: (1) System Lead Entity/Backbone Organization, defined as the lead entity of a regional workforce training system or sectoral partnership; (2) Training Providers, defined as entities providing relevant training and learning in a regional workforce training system; and (3) Participants, defined as individuals directly trained and placed into jobs via a regional workforce training system. System Lead Entities/Backbone Organizations will also coordinate with relevant employers to understand program performance from the employers' perspective. All process, output, and outcome metrics are associated with the following objectives:

• System Lead Entity/Backbone Organizations: (1) Establish, strengthen, or expand sectoral partnerships or regional workforce training systems; (2) Target underserved populations and areas to participate in the skills training program to reduce systemic inequities and barriers to employment and enhance diversity, equity, and inclusion in industry, including by securing and offering wrap-around services; (3) support employers in filling demand for good-paying jobs, and (4) Leverage federal and non-federal funds to expand reach and support sustainability.

• Training Providers: Provide skills training to unemployed, underemployed, or incumbent workers with opportunity for increased wages through targeted upskilling to place them into quality jobs and provide employers with skilled workers.

• Participants: Position for employment and wage growth.

AEDA will require all ARPA Good Jobs Challenge award recipients and stakeholders to submit this data at predetermined intervals (System Lead Entities/Backbone Organizations, semiannually; Training Providers, quarterly; and Participants, once at the beginning of their training) to determine results and sustainability of the original grant award throughout the period of performance.

EDA is particularly interested in public comment on how the proposed data collection will support the assessment of job quality, including in ways that rely on pairing this information administrative data for analysis and other ways to minimize burden, or if alternative information should be considered.

II. Method of Collection

Data will be collected electronically.

III. Data

OMB Control Number: New information collection.

Form Number(s): None.

Type of Review: Regular submission.

Affected Public: Recipients of ARPA Good Jobs Challenge awards, which may include a(n): District Organization; Indian Tribe or a consortium of Indian Tribes; State, county, city, or other political subdivision of a State, including a special purpose unit of a state or local government engaged in economic or infrastructure development activities or a consortium of political subdivisions; Institution of Higher Education or a consortium of institutions of higher education; or Public or private non-profit organization or association, including labor unions, acting in cooperation with officials of a political subdivision of a State. Additionally, training providers and participants in regional workforce training systems will be affected.

Preliminary Estimated Number of Respondents: System Lead Entities/Backbone Organization: 50 respondents, responding semiannually; Training Providers: 200 respondents, responding quarterly; and Participants: 10,000 respondents, responding once. As the Good Jobs Challenge is a new program, EDA anticipates that these estimates will be further refined based on data determined post-award.

Estimated Time per Response: System Lead Entity/Backbone Organization: 1.5 hours; Training Providers: 5 minutes per Participant; Participants: 10 minutes.

Estimated Total Annual Burden Hours: 5,150 hours.

Type of respondent (annual) | Number of respondents | Hours per response | Number of responses per year | Total estimated time (hours)
System Lead Entities/Backbone Organizations | 50 * | 1.5 hours | 2 (Semiannual) | 150
Training Providers | 200 (serving 10,000 participants) * | 5 minutes per participant | 4 (Quarterly) | 3,333
Participants | 10,000 * | 10 minutes | 1 (One-time) | 1,666
Total | 10,250 * |  |  | 5,150
* The number of responses should be considered estimates given the Good Jobs Challenge intended impact. Given investment alignment and program priorities are founded on equity, there could be lower number of stakeholders participating given their efforts to work with individuals most underserved.

Estimated Total Annual Cost to Public: $303,953 (cost assumes application of U.S. Bureau of Labor Statistics third quarter 2021 mean hourly employer costs for employee compensation for professional and related occupations of $59.02).

Respondent's Obligation: Mandatory for System Lead Entities/Backbone Organizations and Training Providers.

Legal Authority: The Public Works and Economic Development Act of 1965 (42 U.S.C. 3121 et seq.).

V. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-06599 Filed 3-28-22; 8:45 am]

BILLING CODE 3510-34-P